FEDERAL RESERVE SYSTEM

Change in Bank Control Notices; Acquisitions of Shares of a Savings and Loan Holding Company

The notificants listed below have applied under the Change in Bank Control Act (12 U.S.C. 1817(j)) and the Board's Regulation LL (12 CFR part 238) to acquire shares of a savings and loan holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 12, 2013.

A. Federal Reserve Bank of Philadelphia (William Lang, Senior Vice President) 100 North 6th Street, Philadelphia, Pennsylvania 19105-1521:

1. Robert T. Strong and Kathleen M. Strong, Southampton, Pennsylvania, Brad C. Strong, Cheltenham, Pennsylvania, Julie M. Strong, Richboro, Pennsylvania, Aimee K. Ott, Newtown, Pennsylvania, and Lawrence M. Ott, Langhorne, Pennsylvania; to jointly retain voting shares of Quaint Oak Bancorp, Inc., and thereby indirectly retain voting shares of Quaint Oak Bank, both in Southampton, Pennsylvania.

2. Amended and Restate Quaint Oak Bancorp, Inc. Employee Stock Ownership Plan, Southampton, Pennsylvania, John J. Augustine, individually and trustee, and Dolores T. Augustine, both of Lansdale, Pennsylvania, and Diane J. Colyer, individually and trustee, and Herbert C. Colyer, Jr., both of Feasterville, Pennsylvania; to retain and acquire additional voting shares of Quaint Oak Bancorp, Inc., and Quaint Oak Bank, both in Southampton, Pennsylvania.

Board of Governors of the Federal Reserve System, October 22, 2013.
Margaret McCloskey Shanks,
Deputy Secretary of the Board.

[FR Doc. 2013-25173 Filed 10-24-13; 8:45 am]

BILLING CODE 6210-01-P